DEPARTMENT OF EDUCATION

Office of Special Education and Rehabilitative Services; List of Correspondence

AGENCY: Department of Education.

ACTION: List of correspondence from April 1, 2005 through June 30, 2005.

SUMMARY: The Secretary is publishing the following list pursuant to section 607(d) of the Individuals with Disabilities Education Act, as amended (IDEA). Under section 607(d) of the IDEA, the Secretary is required, on a quarterly basis, to publish in the Federal Register a list of correspondence from the Department of Education received by individuals during the previous quarter that describes the interpretations of the Department of Education (Department) of the IDEA or the regulations that implement the IDEA.

FOR FURTHER INFORMATION CONTACT: Melisande Lee or JoLeta Reynolds. Telephone: (202) 245-7468.

If you use a telecommunications device for the deaf (TDD), you may call the Federal Relay Service (FRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from April 1, 2005 through June 30, 2005.

Included on the list are those letters that contain interpretations of the requirements of the IDEA and its implementing regulations, as well as letters and other documents that the Department believes will assist the public in understanding the requirements of the law and its regulations. The date of and topic addressed by a letter are identified, and summary information is also provided, as appropriate. To protect the privacy interests of the individual or individuals involved, personally identifiable information has been deleted, as appropriate. Most of the changes made to the IDEA by the Individuals with Disabilities Education Improvement Act of 2004 (IDEA 2004), which reauthorized and amended the IDEA, took effect on July 1, 2005. Because the letters in this list were issued prior to July 1, 2005, the effective date of IDEA 2004, statutory citations in this list refer to the provisions of the IDEA that were in effect prior to July 1, 2005.

Part B—Assistance for Education of All Children With Disabilities

Section 611—Authorization; Allotment; Use of Funds; Authorization of Appropriations

Section 619—Preschool Grants

Topic Addressed: Allocation of Funds.

• Letter dated June 20, 2005 to New York State Education Department Deputy Commissioner Dr. Rebecca Cort, clarifying that the New York State Education Department may not require its local educational agencies (LEAs) to pass through Part B funds to private providers or counties in the form of a suballocation required under New York law, but that at an LEA's discretion, disbursements may be made to cover the cost of providing special education and related services to individual students with disabilities.

Topic Addressed: Use of Funds.

• Letter dated May 5, 2005 to Guam Associate Superintendent of Education Vincent T. Leon Guerrero, clarifying that Part B funds may be used to purchase mini buses equipped with wheelchair lifts operated solely to provide transportation services for eligible students with disabilities.

• Letter dated April 5, 2005 to Louisiana Department of Education Superintendent of Education Cecil J. Picard, approving the State's request to use Part B funds to purchase computer equipment and software to improve educational services for students with disabilities in the State's residential programs.

Section 612—State Eligibility

Topic Addressed: Children with disabilities placed in private schools by their parents.

• Office of Special Education Programs Memorandum 05-09 dated June 27, 2005 to Chief State School Officers, regarding significant statutory changes made by IDEA 2004 governing the obligations of LEAs to parentally-placed private school children with disabilities attending private schools in the LEA's area of jurisdiction and announcing that for the 2005-06 school year only, the Secretary will allow States and LEAs to use the best available data in calculating the proportionate amount of Federal funds to be expended on services for parentally-placed private school children with disabilities, in lieu of conducting new child counts.

Topic Addressed: Participation of children with disabilities in state and district-wide assessments.

• Letter dated June 22, 2005 to New Mexico Public Education Department Director of Special Education Denise Koscielniak, clarifying that IDEA requirements governing the participation of children with disabilities in State and districtwide assessments are applicable to New Mexico's kindergarten screening program.

Section 613—Local Educational Agency Eligibility

Topic Addressed: Charter schools.

• Letter dated June 3, 2005 to Arizona Attorney Mary Ellen Simonson, regarding the Department's audit determination that for-profit charter schools are not eligible to receive funds under IDEA or Title I Part A of the Elementary and Secondary Education Act.

Part C—Infants and Toddlers With Disabilities

Section 636—Individualized Family Service Plan

Topic Addressed: Natural environments.

• Letter dated June 7, 2005 to Washington Infant and Toddler Early Intervention Program Director Sandy L. Morris, regarding the natural environments requirements in Part C of IDEA, and clarifying that IDEA 2004 continues the Department's longstanding interpretation that early intervention services must be provided in a natural environment, unless a written justification exists for providing these services in other settings.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: August 31, 2005.
John H. Hager,
Assistant Secretary for Special Education and Rehabilitative Services.

[FR Doc. 05-17665 Filed 9-6-05; 8:45 am]

BILLING CODE 4000-01-P